DEPARTMENT OF TRANSPORTATION

Coast Guard

33 CFR Parts 100, 117 and 165

[USCG-2002-11544]

Safety Zones, Security Zones, Drawbridge Operation Regulations and Special Local Regulations

AGENCY: Coast Guard, DOT.

ACTION: Notice of temporary rules issued.

SUMMARY: This document provides required notice of substantive rules issued by the Coast Guard and temporarily effective between April 1, 2002 and June 30, 2002, which were not published in the Federal Register. This quarterly notice lists temporary local regulations, drawbridge operation regulations, security zones, and safety zones of limited duration and for which timely publication in the Federal Register was not possible.

DATES: This notice lists temporary Coast Guard rules that became effective and were terminated between April 1, 2002 and June 30, 2002.

ADDRESSES: The Docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal Holidays. You may electronically access the public docket for this notice on the Internet at http://dms.dot.gov.

FOR FURTHER INFORMATION CONTACT: For questions on this notice, contact LTJG Sean Fahey, Office of Regulations and Administrative Law, at telephone number (202) 267-2830. For questions on viewing, or on submitting material to the docket, contact Dorothy Beard, Chief, Dockets, Department of Transportation at (202) 366-5149.

SUPPLEMENTARY INFORMATION: Coast Guard District Commanders and Captains of the Port (COTP) must be immediately responsive to the safety and security needs of the waters within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Drawbridge operation regulations authorize changes to drawbridge schedules to accommodate bridge repairs, seasonal vessel traffic, and local public events. Special local regulations are issued to enhance the safety of participants and spectators at regattas and other marine events.

Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these special local regulations, drawbridge operation regulations, security zones, or safety zones by Coast Guard officials on-scene prior to any enforcement action. However, the Coast Guard, by law, must publish in the Federal Register notice of all substantive rules adopted. To meet this obligation without imposing undue expense on the public, the Coast Guard periodically publishes a list of these temporary special local regulations, drawbridge operation regulations, security zones, and safety zones.

Permanent rules are not included in this list because they are published in their entirety in the Federal Register. Temporary rules may also be published in their entirety if sufficient time is available to do so before they are placed in effect or terminated. The safety zones, special local regulations, drawbridge operation regulations, and security zones listed in this notice have been exempted from review under Executive Order 12866, Regulatory Planning and Review, because of their emergency nature, or limited scope and temporary effectiveness.

The following rules were place in effect temporarily during the period from April 1, 2002, through June 30, 2002, unless otherwise indicated. This notice also includes rules that were not received in time to be included on the quarterly notice for the second, third and fourth quarters of 2001 and the first quarter of 2002.

Dated: July 23, 2002.
S.G. Venckus,
Chief, Office of Regulations and Administrative Law.

COTP Quarterly Report—2nd Quarter 2002
COTP docket | Location | Type | Effective date
Baltimore 02-004 | Annapolis, Maryland | Security Zone | 05/24/2002
Charleston 02-039 | Myrtle Beach, SC | Safety Zone | 04/29/2002
Guam 02-009 | Outer Apra Harbor, Guam | Safety Zone | 04/16/2002
Guam 02-010 | North of Glass Breakwater, Guam | Safety Zone | 04/18/2002
Houston-Galveston 02-005 | Galveston, Texas | Security Zone | 04/05/2002
Houston-Galveston 02-008 | COPT Houston-Galveston Zone | Security Zone | 04/15/2002
Houston-Galveston 02-013 | Dredge Operation, Channel Closure | Safety Zone | 04/22/2002
Houston-Galveston 02-014 | Dredge Operation, Channel Closure | Safety Zone | 05/21/2002
Houston-Galveston 02-015 | Dredge Operation, Channel Closure | Safety Zone | 06/08/2002
Huntington 02-002 | Kanawha River, M. 57.5 to 62 | Safety Zone | 04/27/2002
Jacksonville 02-076 | Indian River, New Smyrna Beach, FL | Safety Zone | 06/29/2002
LA/Long Beach 02-008 | Flight Demonstration, Long Beach, CA | Safety Zone | 04/13/2002
Louisville 02-001 | Ohio River, M. 470 to 471.5 | Security Zone | 06/17/2002
Miami 02-029 | Palm Beach County, FL | Safety Zone | 05/03/2002
Miami 02-031 | Air Sea Show, Fort Lauderdale, FL | Safety Zone | 05/01/2002
Miami 02-040 | M/V Conti Seattle, Miami, FL | Safety Zone | 05/02/2002
Miami 02-043 | FL Keys National Marine Sanctuary | Safety Zone | 05/12/2002
Miami 02-071 | FL Keys National Marine Sanctuary | Safety Zone | 05/20/2002
Morgan 02-003 | Little Lake, Louisiana | Safety Zone | 04/10/2002
New Orleans 02-007 | LWR Mississippi River, M. 94 to 96 | Safety Zone | 04/13/2002
New Orleans 02-009 | LWR Mississippi River, M. 94 to 96 | Safety Zone | 05/15/2002
Pittsburgh 02-008 | Allegheny River, M. 3 to 6 | Safety Zone | 04/12/2002
Pittsburgh 02-009 | Monongahela River, M. 14.1 to 11.2 | Safety Zone | 06/17/2002
San Diego 02-003 | Lake Moovalya, Colorado River, AZ | Safety Zone | 04/06/2002
San Diego 02-005 | Colorado River, Davis Dam | Safety Zone | 06/01/2002
San Diego 02-006 | San Diego Bay, CA | Safety Zone | 04/26/2002
San Diego 02-007 | Oceanside, California | Safety Zone | 05/05/2002
San Diego 02-011 | Colorado River | Safety Zone | 05/11/2002
San Diego 02-012 | San Diego, CA | Safety Zone | 05/23/2002
San Francisco 02-004 | Suisun Bay, Concord, CA | Security Zone | 04/15/2002
San Francisco 02-005 | Suisun Bay, Concord, CA | Security Zone | 04/24/2002
San Francisco 02-006 | San Francisco Bay, San Francisco, CA | Safety Zone | 05/01/2002
San Francisco 02-007 | San Francisco Bay, San Francisco, CA | Safety Zone | 05/11/2002
San Francisco Bay 02-009 | Oakland Inner Harbor, Oakland, CA | Safety Zone | 05/18/2002
San Francisco Bay 02-012 | San Francisco Bay, San Francisco, CA | Safety Zone | 06/14/2002
San Francisco Bay 02-013 | Oakland Estuary, Alameda, CA | Security Zone | 06/14/2002
San Juan 02-072 | San Juan Harbor, San Juan, PR | Safety Zone | 06/20/2002
Savannah 02-027 | Atlantic Intercoastal Waterway, GA | Safety Zone | 04/04/2002
Savannah 02-028 | Memorial Park, Savannah, GA | Safety Zone | 04/06/2002
St. Louis 02-006 | Illinois River, M. 0 to 187 | Safety Zone | 05/16/2002

District Quarterly Report—2nd Quarter 2002
District docket | Location | Type | Effective date
01-02-006 | Mystic Offshore Gran Prix, New London, CT | Safety Zone | 05/03/2002
01-02-065 | Yarmouth, Nantucket Sound, MA | Safety Zone | 06/07/2002
01-02-073 | Hingham, Massachusetts | Safety Zone | 06/29/2002
05-02-018 | Washington Channel, Washington DC | Security Zone | 05/31/2002
05-02-023 | James River, Williamsburg, VA | Safety Zone | 05/05/2002
05-02-024 | Elizabeth River, Portsmouth, Virginia | Safety Zone | 05/26/2002
05-02-026 | Severn River, Annapolis, MD | Special Local | 05/21/2002
05-02-027 | Pea Patch Island to Delaware City, Delaware | Special Local | 06/08/2002
05-02-030 | Willoughby Bay, Norfolk, Virginia | Safety Zone | 06/04/2002
05-02-035 | Hampton Roads, Elizabeth River, VA | Security Zone | 06/04/2002
05-02-036 | Thimble Shoals Channel, Hampton Roads, VA | Safety Zone | 06/04/2002
05-02-037 | Hampton Roads, Virginia | Safety Zone | 06/13/2002
05-02-038 | Hampton Roads, Elizabeth River, VA | Security Zone | 06/11/2002
07-02-023 | Fort Lauderdale, Broward County, FL | Drawbridge Operation | 05/05/2002
07-02-045 | Cooper River, North Charleston, SC | Special Local | 06/15/2002
07-02-068 | San Juan Harbor, San Juan, PR | Safety Zone | 06/17/2002
09-02-014 | Cleveland Harbor, Cleveland, OH | Safety Zone | 05/03/2002
09-02-016 | Lake Ontario, Youngstown, NY | Safety Zone | 05/18/2002
09-02-019 | Lake Michigan | Security Zone | 05/05/2002
09-02-022 | Buffalo River, Buffalo, NY | Safety Zone | 05/28/2002
09-02-023 | Pridefest 2002, Milwaukee, Wisconsin | Safety Zone | 06/07/2002
09-02-025 | River Splash 2002, Milwaukee, Wisconsin | Safety Zone | 05/31/2002
09-02-030 | U.S. Aerospace Challenge, Holland, MI | Safety Zone | 05/18/2002
09-02-043 | Ottawa River, Toledo, OH | Safety Zone | 06/29/2002
09-02-045 | Summerfest Big Bang, 2002, Milwaukee, WI | Safety Zone | 06/27/2002
09-02-047 | Betsie Bay, Frankfort, MI | Safety Zone | 06/29/2002
09-02-054 | Detroit River, Detroit, MI | Safety Zone | 06/27/2002
09-02-056 | Milwaukee, Wisconsin | Safety Zone | 06/27/2002

Regulations not on Previous Quarterly Reports
COPT docket/district | Location | Type | Effective date
COPT Regulation for 2nd Quarter 2001
Guam 01-010 | Outer Apra Harbor, Guam | Safety Zone | 06/06/01
COPT Regulation for 3rd Quarter 2001
Louisiana 01-023 | LMR from the seabuoys at SW Pass and South Pass to M 233, Highway 190 Bridge, AHP and the Mississippi River Gulf Outlet | Security Zone | 09/12/01
New Orleans 01-025 | Lower Mississippi River M 106.1 to M 92.7 | Safety Zone | 09/13/01
COPT Regulations for 4th Quarter 2001
Houston-Galveston 01-011 | Houston-Galveston | Security Zones | 12/07/01
Tampa 01-148 | Tampa Bay, Florida | Safety Zone | 12/20/01
District Docket for 4th Quarter 2001
08-01-040 | Mississippi River, Iowa and Illinois | Drawbridge Operation Regulations | 12/17/01
COPT Regulations for 1st Quarter 2002
Houston 02-007 | Houston, Texas | Safety Zone | 03/24/02
Houston-Galveston 02-002 | Port of Galveston, Galveston, TX | Security Zone | 03/01/02
Mobile 02-005 | Mobile, Alabama | Security Zone | 03/20/02
Mobile 02-006 | Tyndall AFB, East Bay, Panama City, FL | Security Zone | 03/23/02
Pittsburgh 02-007 | Ohio River M 67.5 to 68.5, Steubenville, Ohio | Safety Zone | 03/30/02
San Francisco Bay 02-002 | Suisun Bay, Concord, CA | Security Zone | 03/25/02
Tampa 02-018 | St. Pete Beach, Florida | Security Zone | 03/08/02
Tampa 02-019 | Old Tampa Bay, Clearwater, Florida | Security Zone | 03/08/02

[FR Doc. 02-19135 Filed 7-29-02; 8:45 am]

BILLING CODE 4910-15-M